DEPARTMENT OF COMMERCE

International Trade Administration

[C-533-839]

Carbazole Violet Pigment 23 From India: Final Results of the Expedited Third Five-Year Sunset Review of the Countervailing Duty Order

AGENCY: Enforcement and Compliance, International Trade Administration, Department of Commerce.

SUMMARY: As a result of this sunset review, the Department of Commerce (Commerce) finds that revocation of the countervailing duty (CVD) order on carbazole violet pigment 23 (CVP 23) from India would be likely to lead to continuation or recurrence of countervailable subsidies at the levels indicated in the “Final Results of Review” section of this notice.

DATES: Applicable February 9, 2021.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On December 29, 2004, Commerce published its CVD order on CVP 23 from India in the Federal Register.¹ On October 1, 2020, Commerce published the notice of initiation of the third sunset review of the Order, pursuant to section 751(c) of the Tariff Act of 1930, as amended (the Act).² Commerce received a notice of intent to participate from Sun Chemical Corporation (domestic interested party or Sun), within the deadline specified in 19 CFR 351.218(d)(1)(i).³ Sun claimed interested party status under section 771(9)(C) of the Act, as a domestic producer of CVP 23 in the United States.

¹ See Notice of Countervailing Duty Order: Carbazole Violet Pigment 23 from India, 69 FR 77995 (December 29, 2004) (Order).

² See Initiation of Five-Year (Sunset) Review, 85 FR 61928 (October 1, 2020).

³ See Sun's Letter, “Carbazole Violet Pigment 23 from the Republic of India: Notice of Intent to Participate In 3rd Sunset Review of Countervailing Duty Order,” dated October 9, 2020.

Commerce received a substantive response from the domestic interested party ⁴ within the 30-day deadline specified in 19 CFR 351.218(d)(3)(i). We received no substantive response from any other domestic or respondent interested parties in this proceeding, nor was a hearing requested.

⁴ See Sun's Letter, “Carbazole Violet Pigment 23 from the Republic of India: Petitioner's Substantive Response,” dated October 30, 2020.

On November 20, 2020, Commerce notified the U.S. International Trade Commission (ITC) that it did not receive an adequate substantive response from respondent interested parties.⁵ As a result, pursuant to section 751(c)(3)(B) of the Act and 19 CFR 351.218(e)(1)(ii)(C)(2), Commerce conducted an expedited (120-day) sunset review of this Order.

⁵ See Commerce's Letter, “Sunset Reviews Initiated on October 1, 2020,” dated November 20, 2020.

Scope of the Order

The merchandise covered by the scope of the Order is CVP 23 identified as Color Index No. 51319 and Chemical Abstract No. 6358-30-1, with the chemical name of diindolo [3,2-b:3′,2′-m] triphenodioxazine, 8,18-dichloro-5,15-diethy-5,15-dihydro-, and molecular formula of C34H22Cl2N4O2.⁶ The subject merchandise includes the crude pigment in any form (e.g., dry powder, paste, wet cake) and finished pigment in the form of presscake and dry color. Pigment dispersions in any form (e.g., pigments dispersed in oleoresins, flammable solvents, water) are not included within the scope of the order.

⁶ The bracketed section of the product description, [3,2-b:3′,2′-m], is not business proprietary information; the brackets are simply part of the chemical nomenclature.

The merchandise subject to this Order is classifiable under subheading 3204.17.9040 of the Harmonized Tariff Schedule of the United States (HTSUS). Although the HTSUS subheading is provided for convenience and customs purposes, the written description of the merchandise covered by the scope of the Order is dispositive. For a complete description of the scope of the Order, see the accompanying Issues and Decision Memorandum.⁷

⁷ See Memorandum, “Issues and Decision Memorandum for the Expedited Third Sunset Review of the Countervailing Duty Order on Carbazole Violet Pigment 23 from India,” dated concurrently with, and hereby adopted by, this notice (Issues and Decision Memorandum).

Analysis of Comments Received

All issues raised in this sunset review are addressed in the Issues and Decision Memorandum. A list of topics discussed in the Issues and Decision Memorandum is included as an appendix to this notice. The Issues and Decision Memorandum is a public document and is on file electronically via the Enforcement and Compliance's Antidumping and Countervailing Duty Centralized Electronic Service System (ACCESS). ACCESS is available to registered users at http://access.trade.gov. In addition, a complete version of the Issues and Decision Memorandum can be accessed directly on the internet at http://enforcement.trade.gov/frn/. The signed and electronic versions of the Issues and Decision Memorandum are identical in content.

Final Results of Sunset Review

Pursuant to sections 751(c)(1) and 752(b) of the Act, we determine that revocation of the CVD order on CVP-23 from India would be likely to lead to continuation or recurrence of countervailable subsidies at the following rates:

Manufacturers/producers/ exporters | Net countervailable subsidy rate (ad valorem) (percent)
Alpanil Industries Ltd | 14.93
Pidilite Industries Ltd | 15.24
AMI Pigments Pvt. Ltd | 33.61
All Others | 18.66

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the final results and this notice in accordance with sections 751(c), 752(b), and 777(i)(1) of the Act, and 19 CFR 351.218.

Dated: January 29, 2021.
Christian Marsh,
Acting Assistant Secretary for Enforcement and Compliance.

Appendix—List of Topics Discussed in the Issues and Decision Memorandum

I. Summary

II. Background

III. History of the Order

IV. Scope of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2021-02598 Filed 2-8-21; 8:45 am]

BILLING CODE 3510-DS-P